DEPARTMENT OF COMMERCE

International Trade Administration

[Docket No. 120913451-2451-01]

Call for Applications for the International Buyer Program—Calendar Years 2014 and 2015

AGENCY: International Trade Administration, Department of Commerce.

ACTION: Notice and Call for Applications.

SUMMARY: In this notice, the U.S. Department of Commerce (DOC) announces that it will accept applications for the International Buyer Program (IBP) for calendar year 2014 (January 1, 2014 through December 31, 2014). The announcement also sets out the objectives, procedures and application review criteria for the IBP. The purpose of the IBP program is to bring international buyers together with U.S. firms in industries with high export potential at leading U.S. trade shows. Specifically, through the IBP, the DOC selects domestic trade shows which will receive DOC assistance in the form of global promotion in foreign markets, providing export counseling to exhibitors, and providing export counseling and matchmaking services at the trade show. This notice covers selection for IBP participation during calendar year 2014. It also announces a new pilot initiative for the IBP, which will allow up to 20% of the 2014 IBP shows to be preselected for IBP participation in calendar year 2015 (January 1, 2015 through December 31, 2015) without having to reapply for the second year. Eligibility for this pilot initiative is limited to annual trade shows that participated in the IBP in calendar years 2011 or 2012. Applicants interested in being considered for this pilot must indicate so in the application.

DATES: Applications for the IBP must be received by December 10, 2012.

ADDRESSES: The IBP application may be downloaded from http://www.export.gov/IBP. Applications may be submitted by any of the following methods: (1) Mail/Hand Delivery Service: International Buyer Program, Trade Promotion Programs, U.S. and Foreign Commercial Service, International Trade Administration, U.S. Department of Commerce, Ronald Reagan Building, 1300 Pennsylvania Ave. NW., Suite 800M—Mezzanine Level—Atrium North, Washington, DC 20004. Telephone (202) 482-0691; (2) Facsimile: (202) 482-7800; or (3) email: IBP2014@trade.gov. Facsimile and email applications will be accepted as interim applications, but must be followed by a signed original application that is received by the program no later than five (5) business days after the application deadline. To ensure that applications are timely received by the deadline, applicants are strongly urged to send applications by hand delivery service (e.g., U.S. Postal Service Express Delivery, Federal Express, UPS, etc.).

FOR FURTHER INFORMATION CONTACT: Gary Rand, Acting Director, International Buyer Program, Trade Promotion Programs, U.S. and Foreign Commercial Service, International Trade Administration, U.S. Department of Commerce, 1300 Pennsylvania Ave. NW., Ronald Reagan Building, Suite 800M—Mezzanine Level—Atrium North, Washington, DC 20004; Telephone (202) 482-0691; Facsimile: (202) 482-7800; Email: IBP2014@trade.gov.

SUPPLEMENTARY INFORMATION: The IBP was established in the Omnibus Trade and Competitiveness Act of 1988 (Pub. L. 100-418, codified at 15 U.S.C. 4724) to bring international buyers together with U.S. firms by promoting leading U.S. trade shows in industries with high export potential. The IBP emphasizes cooperation between the DOC and trade show organizers to benefit U.S. firms exhibiting at selected events and provides practical, hands-on assistance such as export counseling and market analysis to U.S. companies interested in exporting. Shows selected for the IBP will provide a venue for U.S. companies interested in expanding their sales into international markets.

Through the IBP, the DOC selects trade shows that DOC determines to be leading international trade shows with participation by U.S. firms interested in exporting for promotion in overseas markets by U.S. Embassies and Consulates. DOC is authorized to provide successful applicants with assistance in the form of overseas promotion of the show; outreach to show participants about exporting; recruiting potential buyers to attend the events; and through physical staff assistance at the event through setting up international trade centers at the events. Worldwide promotion is executed through the offices of the DOC U.S. and Foreign Commercial Service (hereinafter referred to as the Commercial Service) in more than 70 countries representing the United States' major trading partners, and also in U.S. Embassies in countries where the Commercial Service does not maintain offices.

The Commercial Service is accepting applications from trade show organizers for the IBP for trade events taking place between January 1, 2014 and December 31, 2014. Selection of a trade show is valid for one event, unless the applicant is selected to participate under the pilot initiative described below, i.e., a trade show organizer seeking selection for a recurring event must submit a new application for selection for each occurrence of the event. For events that occur more than once in a calendar year, the trade show organizer must submit a separate application for each event.

There is no fee required to submit an application. If accepted into the program for calendar year 2014, a participation fee of $9,800 for shows of five days or less is required. For trade shows more than five days in duration, or requiring more than one International Trade Center, a participation fee of $15,000 is required. For trade shows ten days or more in duration, and/or requiring more than two International Trade Centers, the participation fee will be determined by DOC and stated in the written notification of acceptance. In all cases, the fee is due within 45 days of written notification of acceptance into the program.

For this announcement cycle only, the Commercial Service is piloting a new initiative to preselect up to 20% of the shows that are selected for the 2014 IBP, to also participate in the IBP during calendar year 2015 (January 1, 2015 through December 31, 2015), without having to reapply. The purpose of this pilot initiative is to maximize promotion to international buyers by allowing show organizers to engage in longer-term planning while reducing administrative burden on both the Commercial Service and the show organizers by avoiding the need to reapply for the second year. Eligibility for this pilot initiative is limited to annual trade events that participated in the IBP in calendar years 2011 or 2012. For events selected for both calendar years 2014 and 2015, the participation fee for the IBP program for calendar year 2015 event will be announced in the fall of 2013. Payment will be due within 45 days of written notification of the 2015 fee schedule.

For the IBP in calendar year 2014, the Commercial Service expects to select approximately 35 events from among the applicants. Applicants that have expressed interest in the application for preselection for the 2015 IBP cycle will be considered for the pilot initiative. Of these applicants, up to 20% of the events for 2014 will be preselected for the next IBP cycle during the January 1, 2015 through December 31, 2015 period.

The Commercial Service will select those events that are determined to most clearly meet the Commercial Service's statutory mandate in 15 U.S.C. 4721 to promote U.S. exports, especially those of small- and medium-sized enterprises, and that best meet the selection criteria articulated below. Successful applicants will be required to enter into a Memorandum of Agreement (MOA) with the DOC, and must submit payment of the 2014 participation fee within 45 days of written notification of acceptance into the IBP. The MOA constitutes an agreement between the DOC and the show organizer specifying which responsibilities for international promotion of and export assistance services at the trade shows are to be undertaken by the DOC as part of the IBP and, in turn, which responsibilities are to be undertaken by the show organizer. Anyone requesting application information will be sent a sample copy of the MOA along with the application and a copy of this Federal Register Notice. Applicants are encouraged to review the MOA closely as IBP participants are required to comply with all terms, conditions, and obligations in the MOA. Trade show organizer obligations include, but are not limited to, the construction of an International Trade Center at the trade show, production of an export interest directory, and provision of complementary hotel accommodations for DOC staff as explained in the MOA. The responsibilities to be undertaken by the DOC will be carried out by the Commercial Service. Commercial Service responsibilities include, but are not limited to, the worldwide promotion of the trade show and, where feasible, recruitment of international buyers to that show, provision of on-site export assistance to U.S. exhibitors at the show, and the reporting of results to the show organizer.

Selection as an IBP partner does not constitute a guarantee by DOC of the show's success. IBP partnership status is not an endorsement of the show except as to its international buyer activities. Neither non-selection of an applicant for IBP partnership status nor selection for only one calendar year should be viewed as a determination that the event will not be successful in promoting U.S. exports.

Eligibility: All 2014 U.S. trade events, through the show organizer, are eligible to apply for IBP participation. However, only annual U.S. trade events to be held in 2014 and 2015 that were IBP participants in calendar years 2011 and/or 2012 are eligible to apply to the pilot initiative for selection for participation for two calendar years.

Exclusions: Trade shows that are either first-time or horizontal (non-industry specific) events generally will not be considered.

General Evaluation Criteria: The Commercial Service will evaluate shows to be International Buyer Program partners using the following criteria:

(a) Level of Intellectual Property Rights Protection: The trade show organizer includes in the terms and conditions of its exhibitor contracts provisions for the protection of intellectual property rights (IPR); has procedures in place at the trade show to address IPR infringement, which, at a minimum, provides information to help U.S. exhibitors procure legal representation during the trade show; and agrees to assist the DOC to reach and educate U.S. exhibitors on the Strategy Targeting Organized Piracy (STOP!), IPR protection measures available during the show, and the means to protect IPR in overseas markets, as well as in the United States.

(b) Export Potential: The trade show promotes products and services from U.S. industries that have high export potential, as determined by DOC sources, e.g., Commercial Service best prospects lists and U.S. export statistics (certain industries are rated as priorities by our domestic and international commercial officers in their Country Commercial Guides, available through the Web site, http://www.export.gov).

(c) Level of International Interest: The trade show meets the needs of a significant number of overseas markets and corresponds to marketing opportunities as identified by the posts in their Country Commercial Guides (e.g., best prospect lists). Previous international attendance at the show may be used as an indicator.

(d) Scope of the Show: The event must offer a broad spectrum of U.S. made products and services for the subject industry. Trade shows with a majority of U.S. firms as exhibitors are given priority.

(e) U.S. Content of Show Exhibitors: Trade shows with exhibitors featuring a high percentage of products produced in the United States or products with a high degree of U.S. content will be preferred.

(f) Stature of the Show: The trade show is clearly recognized by the industry it covers as a leading event for the promotion of that industry's products and services both domestically and internationally, and as a showplace for the latest technology or services in that industry.

(g) Level of Exhibitor Interest: There is expressed interest on the part of U.S. exhibitors in receiving international business visitors during the trade show. A significant number of U.S. exhibitors should be new-to-export (NTE) or seeking to expand their sales into additional export markets.

(h) Level of Overseas Marketing: There has been a demonstrated effort by the applicant to market prior shows overseas. In addition, the applicant should describe in detail the international marketing program to be conducted for the event, and explain how efforts should increase individual and group international attendance. (Planned cooperation with Visit USA Committees overseas is desirable. For more information on Visit USA Committees go to: http://www.visitusa.com.)

(i) Logistics: The trade show site, facilities, transportation services, and availability of accommodations at the site of the exhibition must be capable of accommodating large numbers of attendees whose native language will not be English.

(j) Level of Cooperation: The applicant demonstrates a willingness to cooperate with the Commercial Service to fulfill the program's goals and adhere to the target dates set out in the MOA and in the event timetables, both of which are available from the program office (see the FOR FURTHER INFORMATION CONTACT section above). Past experience in the IBP will be taken into account in evaluating the applications received.

(k) Delegation Incentives: Show organizers should offer a range of incentives to delegations and/or delegation leaders recruited by the Commercial Service overseas posts. Examples of incentives to international visitors and to organized delegations include, but are not limited to: Waived or reduced admission fees; special organized events, such as receptions, meetings with association executives, briefings, and site tours; and complimentary accommodations for delegation leaders. Waived or reduced admission fees are required for international attendees who are members of Commercial Service-recruited delegations under this program. Delegation leaders also must be provided complimentary admission to the event.

Review Process

The Commercial Service will vet all applications received based on the criteria set out in this notice. Vetting will include soliciting input from Commercial Service domestic and international field offices, focusing primarily on the export potential, level of international interest, and stature of the show. In reviewing applications, the Commercial Service will also consider sector and calendar diversity in terms of the need to allocate resources to support selected events. In selecting events under the two-year pilot initiative, although all of the above factors will be considered, additional emphasis will be placed on past IBP success and cooperation respectively under factors (c) and (j) above. The Assistant Secretary for Trade Promotion and Director General of the U.S. and Foreign Commercial Service will make all selection decisions.

Application Requirements: Show organizers submitting applications for the 2014 or 2014-2015 IBP are requested to submit: (1) A narrative statement addressing each question in the application, Form ITA-4102P; (2) a signed statement that “The above information provided is correct and the applicant will abide by the terms set forth in this Call for Applications for the 2014 and 2015 International Buyer Program (January 1, 2014 through December 31, 2015);” and (3) two copies of the application, on company letterhead, and one electronic copy submitted on a CD-RW (preferably in Microsoft Word® format), on or before the deadline noted above. Applicants interested in participating in the pilot initiative for selection of one event for two successive calendar years should explicitly so indicate in their applications. There is no fee required to apply. The Commercial Service expects to issue the results of this process in April 2013.

Legal Authority: The statutory program authority for the Commercial Service to conduct the International Buyer Program is 15 U.S.C. 4724. The Commercial Service has the legal authority to enter into MOAs with show organizers (partners) under the provisions of the Mutual Educational and Cultural Exchange Act of 1961 (MECEA), as amended (22 U.S.C. 2455(f) and 2458(c)). MECEA allows the Commercial Service to accept contributions of funds and services from firms for the purposes of furthering its mission.

The Office of Management and Budget (OMB) has approved the information collection requirements of the application to this program (Form ITA-4102P) under the provisions of the Paperwork Reduction Act of 1995 (44 U.S.C. 3501 et seq.) (OMB Control No. 0625-0151). Notwithstanding any other provision of law, no person is required to respond to, nor shall a person be subject to a penalty for failure to comply with, a collection of information subject to the requirements of the Paperwork Reduction Act, unless that collection of information displays a currently valid OMB Control Number. For further information please contact: Gary Rand, Acting Director, International Buyer Program (Gary.Rand@trade.gov).

Elnora Moye,
Trade Program Assistant.

[FR Doc. 2012-24926 Filed 10-10-12; 8:45 am]

BILLING CODE 3510-DS-P